DEPARTMENT OF TRANSPORTATION

Federal Aviation Administration

RTCA PMC Program Management Committee Meeting

AGENCY: Federal Aviation Administration (FAA), U.S. Department of Transportation (DOT).

ACTION: RTCA PMC Program Management Committee meeting.

SUMMARY: The FAA is issuing this notice to advise the public of a meeting of RTCA Program Management Committee Meeting. Program Management Committee Meeting manages the technical Federal advisory committee-related business of RTCA.

DATES: The meeting will be held Thursday, September 21, 2017, 8:30 a.m.-4:30 p.m.

ADDRESSES: The meeting will be held at: RTCA Headquarters, 1150 18th Street NW., Suite 910, Washington, DC 20036.

FOR FURTHER INFORMATION CONTACT: Karan Hofmann at khofmann@rtca.org or 202-330-0680, or The RTCA Secretariat, 1150 18th Street NW., Suite 910, Washington, DC, 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the RTCA PMC Program Management Committee Meeting. The agenda will include the following:

Thursday, September 21, 2017, 8:30 a.m.-4:30 p.m.

1. Welcome and Introductions

2. Review/Approve

A. Meeting Summary July 13, 2017

B. Administrative SC TOR Revisions

3. Publication Consideration/Approval

A. New Document—MASPS for Synthetic Vision System for attitude awareness to address CAST SE 22 prepared by SC-213 (Enhanced Flight Vision Systems/Synthetic Vision Systems)

B. Revision to DO-311—Minimum Operational Performance Standards for Rechargeable Lithium Battery Systems, prepared by SC-225 (Rechargeable Lithium Battery and Battery Systems)

C. White Paper—Phase Two DAA MOPS, prepared by SC-228 (Minimum Performance Standards for UAS)

D. White Paper—Phase Two C2, prepared by SC-228 (Minimum Performance Standards for UAS)

E. Revision to DO-227—Minimum Operational Performance Standards for Lithium Batteries, prepared by SC-235 (Non-Rechargeable Lithium Batteries)

4. Integration and Coordination Committee (ICC)

5. Cross Cutting Committee (CCC)

6. Past Action Item Review

7. Discussion

A. SC-135—Environmental Testing—Discussion—Revised TOR

B. FAS—Status Update

C. NAC—Status Update

D. TOC—Status Update

E. DAC—Status Update

F. FAA Actions Taken on Previously Published Documents—Report

G. Special Committees—Chairmen's Reports and Active Inter-Special Committee Requirements Agreements (ISRA)—Review

H. European/EUROCAE Coordination—Status Update

8. Documents Open for Final Review and Comment

9. Other Business

10. Schedule for Committee Deliverables and Next Meeting Date

11. New Action Item Summary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 15, 2017.
Mohannad Dawoud,
Management & Program Analyst, Partnership Contracts Branch, ANG-A17, NextGen, Procurement Services Division, Federal Aviation Administration.

[FR Doc. 2017-17466 Filed 8-17-17; 8:45 am]

BILLING CODE 4910-13-P